DEPARTMENT OF ENERGY

National Nuclear Security Administration

Notice of Update to Advance Consent List

AGENCY: National Nuclear Security Administration, Department of Energy.

ACTION: Notice of update to advance consent list.

SUMMARY: The Department of Energy's National Nuclear Security Administration is providing notice of an update to the advance consent list of countries eligible to receive retransfers from the European Atomic Energy Community (“Euratom”) of low enriched uranium, non-nuclear material, equipment, and source material transferred pursuant to Article 8.1(C)(i) of the Agreement for Cooperation in the Peaceful Uses of Nuclear Energy between the United States of America and the European Atomic Energy Community, signed at Brussels November 7, 1995 and March 29, 1996, entered into force April 12, 1996 (“U.S.-Euratom 123 Agreement”).

FOR FURTHER INFORMATION CONTACT: Ms. Andrea Ferkile, Director, Office of Nonproliferation Policy, National Nuclear Security Administration, Department of Energy, 1000 Independence Avenue SW, Washington, DC 20585, telephone: (202) 586-8868 or email: andrea.ferkile@nnsa.doe.gov.

SUPPLEMENTARY INFORMATION: Article 8.1(C)(i) of the U.S.-Euratom 123 Agreement permits retransfers of the following to third countries: low enriched uranium, non-nuclear material, equipment, and source material transferred pursuant to the U.S.-Euratom 123 Agreement or of low enriched uranium produced through the use of nuclear material or equipment transferred pursuant to the U.S.-Euratom 123 Agreement, for nuclear fuel cycle activities other than the production of high enriched uranium. Paragraph B.2 of the Agreed Minute to the U.S.-Euratom 123 Agreement requires the United States and Euratom to exchange lists of third countries to which retransfers pursuant to Article 8.1(C)(i) of the Agreement may be made (“advance consent lists”). To be eligible for inclusion on the advance consent lists, third countries must have made effective non-proliferation commitments and, for countries on the U.S. advance consent list, must be a party to a civil nuclear cooperation agreement with the United States. Such agreements are entered into under the authority of section 123 of the Atomic Energy Act of 1954, as amended (“123 Agreement”). Paragraph B.4 of the Agreed Minute provides that either the United States or Euratom may delete third countries from its lists following consultations with the other Party.

The Agreement for Cooperation between the Government of the United States of America and the Government of the Arab Republic of Egypt Concerning Peaceful Uses of Nuclear Energy (with annex and agreed minute), signed at Washington June 29, 1981, expired December 29, 2021. The Agreement for Cooperation between the United States of America and the Republic of South Africa Concerning Peaceful Uses of Nuclear Energy, done at Pretoria August 25, 1995, entered into force December 4, 1997, expired December 4, 2022. In the absence of 123 agreements with Egypt and South Africa, these countries are being deleted from the advance consent list of countries eligible to receive retransfers from Euratom of low enriched uranium, non-nuclear material, equipment, and source material transferred, and low enriched uranium produced through the use of nuclear material or equipment transferred for nuclear fuel cycle activities other than the production of high enriched uranium.

Signing Authority

This document of the Department of Energy was signed on April 29, 2024, by Corey Hinderstein, Deputy Administrator for Defense Nuclear Nonproliferation, National Nuclear Security Administration, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on May 2, 2024.
Treena V. Garrett,
Federal Register Liaison Officer, U.S. Department of Energy.

[FR Doc. 2024-09962 Filed 5-7-24; 8:45 am]

BILLING CODE 6450-01-P